DEPARTMENT OF TRANSPORTATION

Federal Aviation Administration

14 CFR Part 39

[Docket No. FAA-2005-20691; Directorate Identifier 2004-NM-249-AD]

RIN 2120-AA64

Airworthiness Directives; Boeing Model 757-200 and -300 Series Airplanes

AGENCY: Federal Aviation Administration (FAA), Department of Transportation (DOT).

ACTION: Proposed rule; withdrawal.

SUMMARY: The FAA withdraws a notice of proposed rulemaking (NPRM) that proposed a new airworthiness directive (AD) for certain Boeing Model 757-200 and -300 series airplanes. The proposed AD would have required inspecting for the part number, the serial number, and the mark “RETESTED” on the reaction link of the main landing gear (MLG), and replacing the reaction link of the MLG with a retested reaction link if necessary. Since the proposed AD was issued, we have received new data that all suspect reaction links of the MLG have been replaced with acceptable reaction links, and the suspect reaction links have been sent back to the reaction link manufacturer. Accordingly, the proposed AD is withdrawn.

ADDRESSES: You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20691; the directorate identifier for this docket is 2004-NM-249-AD.

FOR FURTHER INFORMATION CONTACT: Dennis Stremick, Aerospace Engineer, Airframe Branch, ANM-120S, FAA, Seattle Aircraft Certification Office, 1601 Lind Avenue, SW., Renton, Washington 98055-4056; telephone (425) 917-6450; fax (425) 917-6590.

SUPPLEMENTARY INFORMATION:

Discussion

We proposed to amend part 39 of the Federal Aviation Regulations (14 CFR part 39) with a notice of proposed rulemaking (NPRM) for a new AD for certain Boeing Model 757-200 and -300 series airplanes. That NPRM was published in the Federal Register on March 23, 2005 (70 FR 14585). The NPRM would have required inspecting for the part number, the serial number, and the mark “RETESTED” on the reaction link of the main landing gear (MLG), and replacing the reaction link of the MLG with a retested reaction link if necessary. The NPRM resulted from a report of faulty welds in certain reaction links. The proposed actions were intended to prevent failure of the reaction link, collapse of the MLG, and consequently, loss of control on the ground and possible damage to the airplane.

Actions Since NPRM Was Issued

Since we issued the NPRM, we have received confirmation that, world-wide, all suspect reaction links of the MLG have been replaced with acceptable reaction links, and the suspect reaction links have been sent back to the reaction link manufacturer.

FAA's Conclusions

Upon further consideration, we have determined that the suspect reaction links are not installed on any airplane and have been altered in such a way as to be impossible to be reinstalled on an airplane. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2005-20691, Directorate Identifier 2004-NM-249-AD, which was published in the Federal Register on March 23, 2005 (70 FR 14585).

Issued in Renton, Washington, on January 24, 2006.
Ali Bahrami,
Manager, Transport Airplane Directorate, Aircraft Certification Service.

[FR Doc. E6-1415 Filed 2-1-06; 8:45 am]

BILLING CODE 4910-13-P